GENERAL SERVICES ADMINISTRATION

41 CFR Parts 101-6, 101-18, 101-19, 101-20, 101-33, 101-47

[FPMR Amendment D-99]

RIN 3090-AH60

Real Property Policies

AGENCY: Office of Governmentwide Policy, GSA.

ACTION: Final rule.

SUMMARY: The General Services Administration (GSA) is transferring coverage on real property policies to the Federal Management Regulation (FMR). A final rule published in the Federal Register at 66 FR 5358 (January 18, 2001) moved many of the real property policies to the FMR. An amendment to those regulations appears elsewhere in today's Federal Register. This final rule completes the transfer by removing all FPMR coverage on real property policies and providing cross references to direct readers to the coverage in the FMR.

EFFECTIVE DATE: December 13, 2002.

FOR FURTHER INFORMATION CONTACT: Stanley C. Langfeld, Director, Real Property Policy Division, at (202) 501-1737.

SUPPLEMENTARY INFORMATION:

A. Background

To promote efficient management of Government assets, which is the Federal Property and Administrative Services Act's original intent, GSA is improving its regulatory system by establishing the Federal Management Regulation (FMR) as the successor regulation to the Federal Property Management Regulations (FPMR). The FMR will contain a refined set of policies and regulatory requirements on managing property and administrative services. Non-regulatory guidance, procedures, information, and standards now in the FPMR is being removed from the regulation and will be available in separate documents, such as customer service guides, handbooks, brochures, Internet Web sites, and FMR bulletins.

B. Executive Order 12866

The General Services Administration (GSA) has determined that this final rule is not a significant regulatory action for the purposes of Executive Order 12866.

C. Regulatory Flexibility Act

This final rule is not required to be published in the Federal Register for comment. Therefore, the Regulatory Flexibility Act does not apply.

D. Paperwork Reduction Act

The Paperwork Reduction Act does not apply because this final rule does not impose reporting, recordkeeping or information collection requirements which require the approval of the Office of Management and Budget pursuant to 44 U.S.C. 3501, et seq.

E. Small Business Regulatory Enforcement Fairness Act

This final rule is also exempt from Congressional review prescribed under 5 U.S.C. 801 since it relates solely to agency management and personnel.

List of Subjects in 41 CFR Parts 101-6, 101-18, 101-19, 101-20, 101-33, 101-47, 102-73, 102-74, 102-75, 102-76, 102-80, 102-82, and 102-83

Acquisition of real property, Administrative practices and procedures, Concessions, Crime, Federal buildings and facilities, Fire prevention, Government real property management, Location of space, Public utilities, Safety and environmental management, Security measures, Vending facility program for blind persons.

For the reasons set forth in the preamble, GSA amends 41 CFR chapter 101 as follows:

CHAPTER 101—[AMENDED]

PART 101-6—MISCELLANEOUS REGULATIONS

1. Subpart 101-6.3 is revised to read as follows:

Subpart 101-6.3—Ridesharing

Authority: 40 U.S.C. 486(c); Executive Order 12191 dated February 1, 1980; Sec. 205(c), 63 Stat. 390.

§ 101-6.300 Cross-reference to the Federal Management Regulation (FMR) 41 CFR chapter 102 parts 1 through 220.

For information on Federal facility ridesharing, see FMR part 102-74 (41 CFR part 102-74).

2. Subpart 101-6.6 is revised to read as follows:

Subpart 101-6.6—Fire Protection (Firesafety) Engineering

Authority: 40 U.S.C. 486(c).

§ 101-6.600 Cross-reference to the Federal Management Regulation (FMR) 41 CFR chapter 102 parts 1 through 220.

For information on fire protection (firesafety) engineering, see FMR part 102-74 (41 CFR part 102-74) and FMR part 102-80 (41 CFR part 102-80).

3. Part 101-18 is revised to read as follows:

PART 101-18—ACQUISITION OF REAL PROPERTY

Authority: E.O. 12072, Sec. 1-201(b), 43 FR 36869.

§ 101-18.0 Cross-reference to the Federal Management Regulation (FMR) 41 CFR chapter 102 parts 1 through 220).

For information on acquisition of real property, see FMR part 102-73 (41 CFR part 102-73).

4. Part 101-19 is revised to read as follows:

PART 101-19—CONSTRUCTION AND ALTERATION OF PUBLIC BUILDINGS

Authority: 40 U.S.C. 486(c); 40 U.S.C. 490 (The Federal Property and Administrative Services Act of 1949, as amended, Sec. 205(c) and 210, 63 Stat. 377); and 40 U.S.C. 601-619 (The Public Buildings Act of 1959, as amended); Pub. L. 92-313.

§ 101-19.0 Cross-reference to the Federal Management Regulation (FMR) 41 CFR chapter 102 parts 1 through 220).

For information on construction and alteration of public buildings, see FMR parts 102-74 (41 CFR part 102-74) and 102-76 (41 CFR part 102-76).

5. Part 101-20 is revised to read as follows:

PART 101-20—MANAGEMENT OF BUILDINGS AND GROUNDS

Authority: 40 U.S.C. 486(c); The Federal Property and Administrative Services Act of 1949, as amended, Sec. 205(c), 63 Stat. 390.

§ 101-20.0 Cross-reference to the Federal Management Regulation (FMR) 41 CFR chapter 102 parts 1 through 220).

For information on management of buildings and grounds, see FMR part 102-74 (41 CFR part 102-74).

6. Part 101-33 is revised to read as follows:

PART 101-33—PUBLIC UTILITIES

Authority: 40 U.S.C. 486(c); The Federal Property and Administrative Services Act of 1949, as amended, Sec. 205(c), 63 Stat. 390.

§ 101-33.0 Cross-reference to the Federal Management Regulation (FMR) 41 CFR chapter 102 parts 1 through 220).

For information on public utilities, see FMR part 102-82 (41 CFR part 102-82).

7. Part 101-47 is revised to read as follows:

PART 101-47—UTILIZATION AND DISPOSAL OF REAL PROPERTY

Authority: 40 U.S.C. 486(c); The Federal Property and Administrative Services Act of 1949, as amended, Sec. 205(c), 63 Stat. 390.

§ 101-47.0 Cross-reference to the Federal Management Regulation (FMR) 41 CFR chapter 102 parts 1 through 220).

For information on utilization and disposal of real property, see FMR part 102-75 (41 CFR part 102-75).

8. The Appendix to Subchapter D is revised to read as follows:

Appendix to Subchapter D—Temporary Regulations Federal Property Management Regulations; Interim Rule D-1

PART 101-17—ASSIGNMENT AND UTILIZATION OF SPACE

§ 101-17.0 Cross-reference to the Federal Management Regulation (FMR) 41 CFR chapter 102 parts 1 through 220).

For information on location of space, see FMR part 102-83 (41 CFR part 102-83).

Dated: July 30, 2002.
Stephen A. Perry,
Administrator of General Services.

[FR Doc. 02-30051 Filed 12-12-02; 8:45 am]

BILLING CODE 6820-23-P